DEPARTMENT OF THE INTERIOR

Bureau of Ocean Energy Management

[MMAA 104000]

Cancellation of Oil and Gas Lease Sale 242 in the Beaufort Sea Planning Area on the Outer Continental Shelf (OCS)

AGENCY: Bureau of Ocean Energy Management (BOEM), Interior.

ACTION: Cancellation of Beaufort Lease Sale 242.

SUMMARY: The Department of the Interior has decided to cancel Beaufort Sea Lease Sale 242, which was scheduled to occur in 2017 under the 2012-2017 OCS Oil and Gas Leasing Program. Sale 242 is being canceled due to current market conditions (e.g., low oil prices) and minimal competitive interest from industry.

FOR FURTHER INFORMATION CONTACT: David Diamond, BOEM, Chief, Leasing Division, at (703) 787-1776 or david.diamond@boem.gov.

Dated: November 18, 2015.
Abigail Hopper,
Director, Bureau of Ocean Energy Management.

[FR Doc. 2015-30300 Filed 11-27-15; 8:45 am]

BILLING CODE 4310-MR-P